DEPARTMENT OF TRANSPORTATION

Federal Aviation Administration

Approval of Noise Compatibility Program; Kissimmee Gateway Airport, Kissimmee, FL

AGENCY: Federal Aviation Administration, DOT.

ACTION: Notice.

SUMMARY: The Federal Aviation Administration (FAA) announces its findings on the Noise Compatibility Program Update (NCP) submitted by the City of Kissimmee under the provisions of 49 U.S.C. (the Aviation Safety and Noise Abatement Act, hereinafter referred to as “the Act”) and 14 CFR part 150. These findings are made in recognition of the description of Federal and nonfederal responsibilities in Senate Report No. 96-52 (1980). On December 11, 2009, the FAA determined that the Noise Exposure Maps submitted by the City of Kissimmee under Part 150 were in compliance with applicable requirements. On September 23, 2011, the FAA approved the Kissimmee Gateway Airport Noise Compatibility Program Update. Some of the recommendations of the Program were approved.

DATES: Effective Date: The effective date of the FAA's approval of the Kissimmee Gateway Airport Noise Compatibility Program Update is September 23, 2011.

FOR FURTHER INFORMATION CONTACT: Allan M. Nagy, Federal Aviation Administration, Orlando Airports District Office, 5950 Hazeltine National Drive, Suite 400, Orlando, Florida 32822, phone number: 407-812-6331. Documents reflecting this FAA action may be reviewed at this same location.

SUPPLEMENTARY INFORMATION: This notice announces that the FAA has given its overall approval to the Noise Compatibility Program Update for Kissimmee Gateway Airport, effective September 23, 2011.

Under Section 47504 of the Act, an airport operator who has previously submitted a Noise Exposure Map may submit to the FAA a Noise Compatibility Program which sets forth the measures taken or proposed by the airport operator for the reduction of existing non-compatible land uses and prevention of additional non-compatible land uses within the area covered by the Noise Exposure Maps. The Act requires such programs to be developed in consultation with interested and affected parties including local communities, government agencies, airport users, and FAA personnel.

Each airport noise compatibility program developed in accordance with Title 14 Code of Federal Regulations (CFR) part 150 is a local program, not a Federal program. The FAA does not substitute its judgment for that of the airport operator with respect to which measure should be recommended for action. The FAA's approval or disapproval of 14 CFR part 150 program recommendations is measured according to the standards expressed in 14 CFR part 150 and the Act, and is limited to the following determinations:

a. The Noise Compatibility Program was developed in accordance with the provisions and procedures of 14 CFR part 150;

b. Program measures are reasonably consistent with achieving the goals of reducing existing non-compatible land uses around the airport and preventing the introduction of additional non-compatible land uses;

c. Program measures would not create an undue burden on interstate or foreign commerce, unjustly discriminate against types or classes of aeronautical uses, violate the terms of airport grant agreements, or intrude into areas preempted by the Federal government; and

d. Program measures relating to the use of flight procedures can be implemented within the period covered by the program without derogating safety, adversely affecting the efficient use and management of the navigable airspace and air traffic control systems, or adversely affecting other powers and responsibilities of the Administrator prescribed by law.

Specific limitations with respect to FAA's approval of an airport Noise Compatibility Program are delineated in 14 CFR part 150, Section 150.5. Approval is not a determination concerning the acceptability of land uses under Federal, state, or local law. Approval does not by itself constitute an FAA implementing action. A request for Federal action or approval to implement specific noise compatibility measures may be required, and an FAA decision on the request may require an environmental assessment of the proposed action. Approval does not constitute a commitment by the FAA to financially assist in the implementation of the program nor a determination that all measures covered by the program are eligible for grant-in-aid funding from the FAA. Where Federal funding is sought, requests for project grants must be submitted to the appropriate FAA Airports District Office.

The City of Kissimmee submitted to the FAA on November 16, 2009, the Noise Exposure Maps, descriptions, and other documentation produced during the noise compatibility planning study conducted from September 19, 2008, through September 23, 2011. The Kissimmee Gateway Airport Noise Exposure Maps were determined by FAA to be in compliance with applicable requirements on December 11, 2009. Notice of this determination was published in the Federal Register on December 29, 2009.

The Kissimmee Gateway Airport study contains a proposed Noise Compatibility Program Update comprised of actions designed for phased implementation by airport management and adjacent jurisdictions from Sepember 23, 2011 to the year 2014. It was requested that FAA evaluate and approve this material as a Noise Compatibility Program as described in Section 47504 of the Act. The FAA began its review of the Program on April 1, 2011, and was required by a provision of the Act to approve or disapprove the Program within 180-days (other than the use of new or modified flight procedures for noise control). Failure to approve or disapprove such Program within the 180-day period shall be deemed to be an approval of such Program.

The submitted Program contained a total of nineteen (19) elements, four (4) of which were FAA and/or airport operator actionable measures for noise mitigation on and off the airport. The FAA completed its review and determined that the procedural and substantive requirements of the Act and 14 CFR part 150 have been satisfied. The overall Program, therefore, was approved by the FAA effective September 23, 2011.

Outright approval was granted for two (2) of the specific program elements. In addition, two (2) of the program elements were disapproved by the FAA. Operational Measure #2 was disapproved for purposes of part 150 because it did not provide any quantifiable reduction in noise impacts to non-compatible land uses. Land Use Measure #16 was disapproved for purposes of part 150 because the local municipal jurisdictions have not yet adopted a lower local standard which defines incompatible land uses below DNL 65 dBA. The other fifteen (15) program elements were elements from the original Noise Compatibility Program completed by the City of Kissimmee and approved by the FAA in 1994, which were requested to be rescinded by the airport operator in the current Program. At the airport operators request, the FAA has withdrawn its 1994 approval of these 15 elements in accordance with 14 CFR part 150.35(d)(5).

These determinations are set forth in detail in a Record of Approval signed by the FAA on September 23, 2011. The Record of Approval, as well as other evaluation materials and the documents comprising the submittal, are available for review at the FAA office listed above and at the administrative office of the City of Kissimmee. The Record of Approval also will be available on-line at: http://www.faa.gov/airports_airtraffic/airports/environmental/airport_noise/part_150/states/.

Issued in Orlando, Florida on September 23, 2011.
W. Dean Stringer,
Manager, Orlando Airports District Office.

[FR Doc. 2011-25155 Filed 9-29-11; 8:45 am]

BILLING CODE 4910-13-P